DEPARTMENT OF HEALTH AND HUMAN SERVICES

Centers for Disease Control and Prevention

[Program Announcement Number 04132]

Disease, Disability, and Injury Prevention and Control Special Emphasis Panel (SEP): Organ Transplant Infection Detection and Prevention Program

In accordance with Section 10(a)(2) of the Federal Advisory Committee Act (Pub. L. 92-463), the Centers for Disease Control and Prevention (CDC) announces the following meeting:

Name: Disease, Disability, and Injury Prevention and Control Special Emphasis Panel (SEP): Organ Transplant Infection Detection and Prevention Program, Program Announcement Number 04132.

Times and Dates: 1 p.m.-1:30 p.m., August 4, 2004 (Open). 1:45 p.m.-4:30 p.m., August 4, 2004 (Closed).

Place: Teleconference phone number 1-877-951-9728 Pass Code 362242.

Status: Portions of the meeting will be closed to the public in accordance with provisions set forth in Section 552b(c)(4) and (6), Title 5 U.S.C., and the Determination of the Director, Management Analysis and Services Office, CDC, pursuant to Public Law 92-463.

Matters To Be Discussed: The meeting will include the review, discussion, and evaluation of applications received in response to: Organ Transplant Infection Detection and Prevention Program, Program Announcement Number 04132.

FOR FURTHER INFORMATION CONTACT: Trudy Messmer, PhD., Scientific Review Administrator, Centers for Disease Control, National Center for Infectious Diseases, 1600 Clifton Road NE, Mailstop C19, Atlanta, GA 30333, Telephone 404.639.3770.

The Director, Management Analysis and Services Office, has been delegated the authority to sign Federal Register notices pertaining to announcements of meetings and other committee management activities, for both CDC and the Agency for Toxic Substances and Disease Registry.

Dated: July 1, 2004.
Alvin Hall,
Director, Management Analysis and Services Office, Centers for Disease Control and Prevention (CDC).

[FR Doc. 04-15801 Filed 7-13-04; 8:45 am]

BILLING CODE 4163-13-P